DEPARTMENT OF TRANSPORTATION

Federal Aviation Administration

Notice of Intention To Grant Exclusive License in Government-Owned Invention

AGENCY: Federal Aviation Administration, (FAA), DOT.

ACTION: Notice.

SUMMARY: The FAA hereby gives notice of its intention to grant an exclusive license in the invention titled “Automated System for Assisting Employees to Comply with Filing Requirements”, Application Number 11/174,642, to HRWorx LLC, a small business located in Herndon, VA. HRWorks is participating in a Cooperative Research and Development Agreement with the William J. Hughes Technical Center to further develop and commercialize the Government-owned invention. (Authority: 35 U.S.C. 209, 15 U.S.C. 3710a, 37 CFR part 401)

DATES: Comments in response to this notice may be submitted on or before April 7, 2006.

ADDRESSES: Comments about this Notice may be mailed or delivered to the FAA at the following address: Office of the Center Counsel, ACT-7, Federal Aviation Administration William J. Hughes Technical Center, Atlantic City International Airport, New Jersey 08405, or by e-mail to james.drew@faa.gov.

FOR FURTHER INFORMATION CONTACT: James Drew, Senior Attorney, ACT-7, Federal Aviation Administration William J. Hughes Technical Center, Atlantic City International Airport, New Jersey 08405, telephone (609) 485-7093 or by e-mail to james.drew@faa.gov.

Issued in Atlantic City, New Jersey, on March 17, 2006.
James J. Drew,
Senior Attorney, Intellectual Property.

[FR Doc. E6-4209 Filed 3-22-06; 8:45 am]

BILLING CODE 4910-13-P